ENVIRONMENTAL PROTECTION AGENCY

40 CFR Part 52

[EPA-R04-OAR-2010-0255-201050; FRL-9303-8]

Approval and Promulgation of Air Quality Implementation Plans; West Virginia; Kentucky; Ohio; Huntington-Ashland Nonattainment Area; Determinations of Attainment of the 1997 Annual Fine Particulate Standard

AGENCY: Environmental Protection Agency (EPA).

ACTION: Proposed rule.

SUMMARY: EPA is proposing to make two determinations regarding the tri-state Huntington-Ashland, West Virginia-Kentucky-Ohio fine particulate matter (PM2.5) nonattainment Area (hereafter referred to as “the Huntington-Ashland Area” or “Area”). First, EPA is proposing to determine that the Area has attained the 1997 annual average PM2.5 National Ambient Air Quality Standard (NAAQS). This proposed determination of attainment is based upon complete, quality-assured and certified ambient air monitoring data for the 2007-2009 period showing that the Area has attained the 1997 annual PM2.5 NAAQS, and data available to date for 2010 in EPA's Air Quality System (AQS) database that show the area continues to attain. If EPA finalizes this proposed determination of attainment, the requirements for the Area to submit attainment demonstrations and associated reasonably available control measures (RACM), a reasonable further progress (RFP) plan, contingency measures, and other planning State Implementation Plan (SIP) revisions related to attainment of the standard shall be suspended for so long as the Area continues to attain the annual PM2.5 NAAQS. Second, EPA is also proposing to determine, based on quality-assured and certified monitoring data for the 2007-2009 monitoring period, that the Area has attained the 1997 annual PM2.5 NAAQS by its applicable attainment date of April 5, 2010.

DATES: Comments must be received on or before June 10, 2011.

ADDRESSES: Submit your comments regarding the tri-state Huntington-Ashland Area, identified by Docket ID No. EPA-R04-OAR-2010-0255, by one of the following methods:

1. http://www.regulations.gov: Follow the on-line instructions for submitting comments.

2. E-mail: benjamin.lynorae@epa.gov.

3. Fax: (404) 562-9040.

4. Mail: EPA-R04-OAR-2010-0255, Regulatory Development Section, Air Planning Branch, Air, Pesticides and Toxics Management Division, U.S. Environmental Protection Agency, Region 4, 61 Forsyth Street, SW., Atlanta, Georgia 30303-8960.

5. Hand Delivery: Lynorae Benjamin, Regulatory Development Section, Air Planning Branch, Air, Pesticides and Toxics Management Division, U.S. Environmental Protection Agency, Region 4, 61 Forsyth Street, SW., Atlanta, Georgia 30303-8960. Such deliveries are only accepted during the Regional Office normal hours of operation, and special arrangements should be made for deliveries of boxed information. The Regional Office official hours of business are Monday through Friday, 8:30 to 4:30, excluding Federal holidays.

Instructions: Direct your comments to Docket ID No. EPA-R04-OAR-2010-0255. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at the Regulatory Development Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 to 4:30, excluding Federal holidays.

FOR FURTHER INFORMATION CONTACT: In Region 3, Ellen Wentworth, Office of Air Program Planning, U.S. Environmental Protection Agency, Region 3, 1650 Arch Street, Philadelphia, Pennsylvania 19103-2023. The telephone number is (215) 814-2034. Ms. Wentworth can also be reached via electronic mail at wentworth.ellen@epa.gov. In Region 4, Joel Huey or Sara Waterson, Regulatory Development Section, Air Planning Branch, Air, Pesticides and Toxics Management Division, U.S. Environmental Protection Agency, Region 4, 61 Forsyth Street, SW, Atlanta, Georgia 30303-8960. Mr. Huey's telephone number is (404) 562-9104. Mr. Huey can also be reached via electronic mail at huey.joel@epa.gov. Ms. Waterson may be reached by phone at (404) 562-9061 or via electronic mail at waterson.sara@epa.gov. In Region 5, John Summerhays, Air Planning and Maintenance Section, Air Programs Branch (AR-18J), U.S. Environmental Protection Agency, Region 5, 77 West Jackson Boulevard, Chicago, Illinois 60604-3507. Mr. Summerhays' telephone number is (312) 886-6067. Mr. Summerhays can also be reached via electronic mail at summerhays.john@epa.gov.

SUPPLEMENTARY INFORMATION:

I. What actions is EPA taking?

II. What is the background for these actions?

III. Has the Huntington-Ashland area attained the 1997 annual PM2.5 standard?

A. Criteria

B. Huntington-Ashland Area Air Quality

C. How did EPA address air quality in Lawrence County?

D. Has the Huntington-Ashland area met the 1997 annual PM2.5 air quality standard?

IV. What is the effect of these actions?

V. Statutory and Executive Order Reviews

I. What actions is EPA taking?

In accordance with Section 179(c)(1) of the Clean Air Act (CAA), 42 U.S.C. 7509(c)(1), and 40 CFR 51.1004(c), EPA is proposing to determine that the Huntington-Ashland Area (which consists of portions in West Virginia, Kentucky, and Ohio) has attained the 1997 annual PM2.5 NAAQS. The proposal is based upon quality-assured and certified ambient air monitoring data for the 2007-2009 monitoring period that show that the Area has monitored attainment of the 1997 annual PM2.5 NAAQS, and data available to date for 2010 that show the Area continues to attain. EPA is also proposing to determine, in accordance with EPA's PM2.5 Implementation Rule of April 25, 2007 (72 FR 20664), that the Huntington-Ashland Area has attained the 1997 annual PM2.5 NAAQS by its applicable attainment date of April 5, 2010.

II. What is the background for these actions?

On July 18, 1997 (62 FR 36852), EPA established an annual PM2.5 NAAQS at 15.0 micrograms per cubic meter (μg/m³) based on a 3-year average of annual mean PM2.5 concentrations (hereafter referred to as “the annual PM2.5 NAAQS” or “the annual standard”). At that time, EPA also established a 24-hour standard of 65 μg/m³ (the “1997 24-hour standard”). See 40 CFR 50.7. On January 5, 2005 (70 FR 944), EPA published its air quality designations and classifications for the 1997 PM2.5 NAAQS based upon air quality monitoring data from those monitors for calendar years 2001-2003. These designations became effective on April 5, 2005. The Huntington-Ashland Area was designated nonattainment for the 1997 PM2.5 NAAQS during this designations process. See 40 CFR 81.349 (West Virginia), 40 CFR 81.318 (Kentucky), and 40 CFR 81.336 (Ohio). The Huntington-Ashland Area is composed of Cabell and Wayne Counties in their entireties and a portion of Mason County (Graham Tax District) in West Virginia; Boyd County in its entirety and a portion of Lawrence County in Kentucky; and a portion of Adams, a portion of Gallia, Lawrence, and Scioto Counties in Ohio.

On October 17, 2006 (71 FR 61144), EPA retained the 1997 annual PM2.5 NAAQS at 15.0 μg/m³ based on a 3-year average of annual mean PM2.5 concentrations, and promulgated a 24-hour standard of 35 μg/m³ based on a 3-year average of the 98th percentile of 24-hour concentrations (the “2006 24-hour standard”). On November 13, 2009, EPA designated the Huntington-Ashland Area as attainment for the 2006 24-hour standard (74 FR 58688). In that action, EPA also clarified the designations for the NAAQS promulgated in 1997, stating that the Huntington-Ashland Area was designated as nonattainment for the annual standard but attainment for the 1997 24-hour standard. Thus, today's action does not address attainment of either the 1997 or the 2006 24-hour standard.

In response to legal challenges of the annual standard promulgated in 2006, the U.S. Court of Appeals for the District of Columbia Circuit (DC Circuit) remanded this standard to EPA for further consideration. See American Farm Bureau Federation and National Pork Producers Council, et al. v. EPA, 559 F.3d 512 (DC Cir. 2009). However, given that the 1997 and 2006 annual standards are essentially identical, attainment of the 1997 annual standard would also indicate attainment of the remanded 2006 annual standard.

On April 25, 2007 (72 FR 20664), EPA promulgated its PM2.5 Implementation Rule, codified at 40 CFR part 51, subpart Z, in which the Agency provided guidance for state and Tribal plans to implement the 1997 PM2.5 standard. This rule, at 40 CFR 51.1004(c), specifies some of the regulatory consequences of attaining the standard, as discussed below.

III. Has the Huntington-Ashland area attained the 1997 annual PM2.5 standard?

A. Criteria

Today's proposed rulemaking assesses whether (1) the Huntington-Ashland Area has attained the 1997 annual PM2.5 NAAQS, based on the most recent three years of quality-assured data, and (2) whether the Area attained that NAAQS by its applicable attainment date of April 5, 2010.

Under EPA regulations at 40 CFR 50.7, the 1997 annual primary and secondary PM2.5 standards are met when the annual arithmetic mean concentration, as determined in accordance with 40 CFR part 50, Appendix N, is less than or equal to 15.0 µg/m³ at all relevant monitoring sites in the subject area.

B. Huntington-Ashland Area Air Quality

EPA has determined that the PM2.5 monitoring network for the Huntington-Ashland Area is adequate based on the following reasons. First, the number of monitors in the Area meets the minimum regulatory requirements given in 40 CFR 58 Appendix D. Second, the monitoring is in accordance with state monitoring plans that have been reviewed and approved by the respective EPA regional offices.

Table 1 shows the design values (i.e., the 3-year average of annual mean PM2.5 concentrations) for the 1997 annual PM2.5 NAAQS for the Huntington-Ashland Area monitors for the years 2007-2009. All data considered have been quality-assured, certified, and recorded in AQS. The highest 3-year average annual concentration for 2007-2009 on this table was recorded in Cabell County, West Virginia at the Huntington site—54-011-0006, recording a 3-year average annual concentration of 14.3 μg/m³.

EPA's review of these data indicates that the Huntington-Ashland Area has met the 1997 annual PM2.5 NAAQS. Table 1 and the related discussion below and in the technical support document (TSD) show that, based on EPA's analysis of data for 2007-2009, the Area attained the 1997 annual PM2.5 standard by its attainment date of April 5, 2010. In addition, Table 2 and the related discussion below and in the TSD show that the Area continues to attain the standard based on data available to date for 2010. EPA is soliciting public comments on the issues discussed in this document. These comments will be considered before taking final action.

Table 1—2007-2009 Annual Average Concentrations in the Huntington-Ashland Area
Site name | County | Site No. | Annual average concentration (μg/m³)
Huntington | Cabell | 54-011-0006 | ¹ 14.3
Ashland Primary (FIVCO) | Boyd | 21-019-0017 | 12.4
Lawrence County Hospital (LCH) | Lawrence | 39-087-0010 | ² 13.3
Ironton Department of Transportation (DOT) ³ | Lawrence | 39-087-0012 | 12.2

C. How did EPA address the air quality in Lawrence County?

Monitoring Network

The LCH site was demolished on February 12, 2008, and a new site in the Lawrence County, Ohio portion of the Huntington-Ashland Area, known as the Ironton DOT site, began operation on the same day. As a consequence of the shutdown of the LCH site, the site was not able to meet the data completeness requirements for 2007-2009 because it was not operating for the entire 2007-2009 monitoring period. A year during which monitoring data is collected meets EPA data completeness requirements when at least 75 percent of the scheduled sampling days for each quarter have valid data. See 40 CFR part 50, Appendix N, section 4.1(b). The use of less than complete data is subject to the approval of EPA, which may consider factors such as monitoring site closures/moves, monitoring diligence, and nearby concentrations in determining whether to use such data (40 CFR part 50, Appendix N, section 4.1(c)). The Ironton DOT site was a new site in 2008 and thus did not collect data for 2007 and part of the first quarter of 2008; however, the data are complete for the remainder of 2008 and 2009. Because this was a new monitor during the 2007-2009 period, these data are considered supplemental to the data provided from the other monitors in the Area.

¹ West Virginia has a collocated monitor in place at the same site for quality assurance purposes. The primary monitor, and not the collocated monitor, is used to determine compliance with the PM2.5 NAAQS. Since the collocated monitor takes fewer readings than the primary monitor, its average annual values may be unrepresentatively high. See 40 CFR part 50, Appendix N, 3(d)(1).

² The Lawrence County Hospital Site was shut down in February 2008. The Ironton DOT site began operation on the same day the Lawrence County Hospital Site ceased monitoring.

³ The Ironton DOT site did not begin operation until February 2008.

To evaluate air quality at the LCH site, EPA applied statistical analysis using data from other sites in the Area. The approach, summarized in this section and further described in the TSD, is appropriate for this Area but may or may not be suitable for other areas with less than complete data. EPA will evaluate the appropriateness of this analytical approach on a case-by-case basis for determinations regarding each area with less than complete data.

The first step in the analysis was to assess the correlation of concentrations at the LCH site with concentrations at other sites in the Area. The monitor in the Area that had the highest correlation with the LCH site was the Ashland Primary site; therefore, subsequent analyses used data from this site. The second step was to develop a regression equation expressing the relationship between concentrations at the LCH and the Ashland Primary sites. This regression equation was used to estimate values at the LCH site on days during quarters with incomplete data when the LCH site did not measure concentrations because the site was no longer operating. A 2007-2009 design value for the LCH site was then calculated using these estimated values. Under this method, the 2007-2009 design value for the LCH site was estimated to be 13.3 μg/m³.

This estimated design value was then analyzed using a statistical method that involved the use of regression residuals, referred to as the bootstrap method. In this analysis, EPA repeated the regression analysis 1,000 times with different values within the probability distribution of LCH concentrations that could be associated with given concentrations at the Ashland Primary site. From this analysis, as described in detail in the TSD, EPA determined that the upper end of the range of potential 2007-2009 design values obtained did not exceed the NAAQS. No exceedances of the NAAQS resulted from application of the statistical analysis. Therefore, EPA concluded that for 2007-2009, the annual average concentrations of all of the monitors in the Huntington-Ashland Area are below the NAAQS.

Although the LCH monitor does not have complete data for the 2007-2009 monitoring period, the historical certified data recorded at the monitor provide additional support for EPA's proposed determination that the Huntington-Ashland Area has attained the 1997 annual PM2.5 NAAQS. The annual average design values for the two years preceding the demolition of the site (2006 and 2007) were below the NAAQS and the monitor met data completeness requirements. EPA is also approving the use of these data for consideration in this determination because it finds that West Virginia and Kentucky have exercised diligence in monitoring in the Huntington-Ashland Area.

Determinations of attainment are based on three years of complete, quality-assured data. Nevertheless, any such assessment should consider additional quality-assured data, to the extent that quality-assured data exist. In accordance with Appendix N and standard EPA practice, this review of data is based on the three most recent years of complete data, generally 2007-2009. Quality-assured data are now available for 2010, which EPA used to compute preliminary design values. The Huntington site has a preliminary 2008-2010 design value of 13.1 μg/m³, the Ashland site has a preliminary 2008-2010 design value of 11.4 μg/m³, and the Ironton DOT site has a preliminary 2008-2010 design value of 12.2 μg/m³. On the basis of this review, EPA is proposing to determine that the Huntington-Ashland Area has attained the 1997 annual PM2.5 NAAQS, and is soliciting public comments on its proposed determination.

Table 2—2008-2010 Annual Average Concentrations in the Huntington-Ashland Area
Site name | County | Site No. | Annual average concentration (μg/m³)
Huntington | Cabell | 54-011-0006 | 13.1
Ashland Primary (FIVCO) | Boyd | 21-019-0017 | 11.4
Ironton DOT ⁴ | Lawrence | 39-087-0012 | 12.2

D. Has the Huntington-Ashland area met the 1997 annual PM2.5 air quality standard?

EPA has reviewed the ambient air monitoring data for PM2.5, consistent with the requirements contained in 40 CFR part 50 and recorded the data in the EPA AQS database, for the Huntington-Ashland Area from 2007 through the present time.

⁴ The Ironton DOT site began operation in February 2008 and thus did collect 75 percent for the first quarter of 2008. However, this was a new site and monitoring data did meet 75 percent completeness for the remainder of the quarter and for the subsequent quarters. As such, EPA does not consider the first quarter data to be incomplete.

On the basis of that review, EPA proposes to determine that this Area has attained and continues to attain the 1997 annual PM2.5 NAAQS based on the quality-assured data for the 2007-2009, which demonstrates attainment by April 5, 2010, and 2008-2010 monitoring periods. In addition, based on EPA's review of the data for 2007-2009, and in accordance with section 179(c)(1) of the CAA and EPA's regulations, EPA proposes to determine that the Area attained the 1997 annual PM2.5 NAAQS by its applicable attainment date of April 5, 2010.

IV. What is the effect of these actions?

If EPA's proposed determination of attainment, based on the most recent three years of quality-assured data, is made final, the requirements for the Huntington-Ashland Area to submit attainment demonstrations and associated RACM, a RFP plan, contingency measures, and any other planning SIPs related to attainment of the 1997 annual PM2.5 NAAQS would be suspended for so long as the Huntington-Ashland Area continues to attain the 1997 annual PM2.5 NAAQS. See 40 CFR 51.1004(c). Notably, as described below, any such determination would not be equivalent to the redesignation of the Huntington-Ashland Area to attainment for the 1997 annual PM2.5 NAAQS.

If this proposed determination of attainment is finalized and EPA subsequently determines, after notice-and-comment rulemaking in the Federal Register, that the Area has violated the 1997 annual PM2.5 NAAQS, the basis for the suspension of the specific requirements would no longer exist for the Huntington-Ashland Area, and the Area would thereafter have to address the applicable requirements. See 40 CFR 51.1004(c).

Finalizing this proposed action would not constitute a redesignation of the Area to attainment of the 1997 annual PM2.5 NAAQS under section 107(d)(3) of the CAA. Further, finalizing this proposed action does not involve approving maintenance plans for the Area as required under section 175A of the CAA, nor would it find that the Area has met all other requirements for redesignation. Even if EPA finalizes the proposed action, the designation status of the Huntington-Ashland Area would remain nonattainment for the 1997 annual PM2.5 NAAQS until such time as EPA determines that the Area meets the CAA requirements for redesignation to attainment and takes action to redesignate the Huntington-Ashland Area.

In addition, if EPA's separate and independent proposed determination that the Area has attained the 1997 annual PM2.5 standard by its applicable attainment date (April 5, 2010) is finalized, EPA will have met its requirement pursuant to section 179(c)(1) of the CAA to make a determination based on the Area's air quality data as of the attainment date whether the Area attained the standard by that date.

These two actions described above are proposed determinations regarding the Huntington-Ashland Area's attainment only with respect to the 1997 annual PM2.5 NAAQS. Today's actions do not address the 24-hour PM2.5 NAAQS.

V. Statutory and Executive Order Reviews

These actions propose to make determinations of attainment based on air quality, and would, if finalized, result in the suspension of certain Federal requirements, and it would not impose additional requirements beyond those imposed by state law. For that reason, these proposed actions:

• Are not “significant regulatory actions” subject to review by the Office of Management and Budget under Executive Order 12866 (58 FR 51735, October 4, 1993);

• Do not impose an information collection burden under the provisions of the Paperwork Reduction Act (44 U.S.C. 3501 et seq.);

• Are certified as not having a significant economic impact on a substantial number of small entities under the Regulatory Flexibility Act (5 U.S.C. 601 et seq.);

• Do not contain any unfunded mandate or significantly or uniquely affect small governments, as described in the Unfunded Mandates Reform Act of 1995 (Pub. L. 104-4);

• Do not have Federalism implications as specified in Executive Order 13132 (64 FR 43255, August 10, 1999);

• Are not economically significant regulatory actions based on health or safety risks subject to Executive Order 13045 (62 FR 19885, April 23, 1997);

• Are not significant regulatory actions subject to Executive Order 13211 (66 FR 28355, May 22, 2001);

• Are not subject to requirements of Section 12(d) of the National Technology Transfer and Advancement Act of 1995 (15 U.S.C. 272 note) because application of those requirements would be inconsistent with the CAA; and

• Do not provide EPA with the discretionary authority to address, as appropriate, disproportionate human health or environmental effects, using practicable and legally permissible methods, under Executive Order 12898 (59 FR 7629, February 16, 1994). In addition, these proposed 1997 annual PM2.5 NAAQS determinations for the Huntington-Ashland Area do not have Tribal implications as specified by Executive Order 13175 (65 FR 67249, November 9, 2000), because the SIP is not approved to apply in Indian country located in the state, and EPA notes that it will not impose substantial direct costs on Tribal governments or preempt Tribal law.

List of Subjects in 40 CFR Part 52

Environmental protection, Air pollution control, Intergovernmental relations, Particulate matter, Reporting and recordkeeping requirements.

Dated: April 13, 2011.
Gwendolyn Keyes Fleming,
Regional Administrator, Region 4.
Dated: April 26, 2011.
Susan Hedman,
Regional Administrator, Region 5.
Dated: April 6, 2011.
W.C. Early,
Acting Regional Administrator, Region III.

[FR Doc. 2011-11355 Filed 5-10-11; 8:45 am]

BILLING CODE 6560-50-P